DEPARTMENT OF HEALTH AND HUMAN SERVICES

Centers for Medicare & Medicaid Services

[Document Identifier CMS-10380]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Revision of a currently approved collection; Title of Information Collection: Rate Review Grants to States and Territories Cycle I and II Funding Opportunity Announcement Application and Reporting; Use: Under the Section 1003 of the Affordable Care Act (Section 2794 of the Public Health Service Act), the Secretary, in conjunction with the States and territories, is required to establish a process for the annual review, beginning with the 2010 plan year, of unreasonable increases in premiums for health insurance coverage. Section 2794(c) requires the Secretary to establish Premium Review Grants to States to assist States to implement this provision.

The U.S. Department of Health and Human Services (HHS) released the Rate Review Grants Cycle I funding opportunity twice; first to States (and the District of Columbia) in June 2010 and then to the territories and the five States that did not apply during the first release, (http://www.hhs.gov/ociio/initiative/final_premium_review_grant_solicitation.pdf). The second release was due to the decision that the territories were subject to provisions of the ACA and hence eligible for the Rate Review Grants. 46 States and 5 U.S. territories plus the District of Columbia were awarded grants. CCIIO is seeking to publish the Cycle II Funding Opportunity Announcement and associated grantee reporting requirements consisting of (4) Quarterly reports, rate review transaction data (quarterly), (1) annual report per year, and (1) final report from all grantees. This information collection is required for effective monitoring of grantees and to fulfill statutory requirements under Section 2794(b)(1)(a) that requires grantees, as a condition of receiving a grant authorized under Section 2794(c), to report to The Secretary information about premium increases. Form Number: CMS-10380 (OCN: 0938-1121); Frequency: Annually, On Occasion; Affected Public: Public Sector: State and Territory Governments; Number of Respondents: 107; Number of Responses: 1,075; Total Annual Hours 42,872. (For policy questions regarding this collection, contact Jacqueline Roche at 301-492-4171. For all other issues call (410) 786-1326.)

To obtain copies of the supporting statement and any related forms for the proposed paperwork collections referenced above, access CMS' Web site at http://www.cms.gov/PaperworkReductionActof1995/PRAL/list.asp#TopOfPage or e-mail your request, including your address, phone number, OMB number, and CMS document identifier, to Paperwork@cms.hhs.gov, or call the Reports Clearance Office at 410-786-1326.

In commenting on the proposed information collections please reference the document identifier or OMB control number. To be assured consideration, comments and recommendations must be submitted in one of the following ways by July 15, 2011:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number, Room C4-26-05, 7500 Security Boulevard, Baltimore, Maryland 21244-1850.

Dated: May 10, 2011.
Martique Jones,
Director, Regulations Development Group, Division B, Office of Strategic Operations and Regulatory Affairs.

[FR Doc. 2011-11836 Filed 5-13-11; 8:45 am]

BILLING CODE 4120-01-P